FEDERAL EMERGENCY MANAGEMENT AGENCY

44 CFR Part 67

[Docket No. FEMA-D-7504]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Associate Director, Mitigation Directorate, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet (NGVD): Existing | #Depth in feet above ground. *Elevation in feet (NGVD): Modified
Florida | Osceola County (Unincorporated Areas) | Lake Wilson | Entire shoreline within the community | **104 | **107
|  | Buck Lake | Entire shoreline within the community | **104 | **107
Maps available for inspection at the Osceola County Administrative Building, Engineering Department, Room 249, 17 South Vernon Avenue, Kissimmee, Florida.
Send comments to Mr. Robert Fernandez, Osceola County Manager, 1 Courthouse Square, Suite 4700, Kissimmee, Florida 34741.
Maine | Kingsfield (Town) Franklin County | Stanley Stream upstream | Approximately 50 feet of the confluence with Carrabassett River | None | *557
|  |  | Approximately 720 feet upstream of Roxbury Street | None | *572
|  | Unnamed Brook | At confluence with Stanley Stream | None | *572
|  |  | Approximately 0.4 mile upstream of the confluence with Stanley Stream | None | *589
|  | Tufts Pond | Entire shoreline within the community | None | *1,250
Maps available for inspection at the Kingfield Town Hall, 38 School Street, Kingfield, Maine.
Send comments to Mr. William F. Brown, Chairman of the Town of Kingfield Board of Selectmen, R.R. #1, Box 1585, Kingfield, Maine 04947.
| Wells (Town), York County | Atlantic Ocean | Approximately 300 feet east of the intersection of Bourne Avenue and Ocean Avenue | *13 | *20
|  |  | Approximately 100 feet west of the intersection of Mile Road and Webhannet Drive | None | *10
|  |  | Approximately 50 feet northwest of the intersection of Seaview Drive and Webhannet Drive | #2 | #1
|  |  | Approximately 100 feet southeast of the intersection of Drakes Island Road and Drakes Island Beach Road | None | #2
|  |  | At intersection of Furbush Road and Ocean Avenue | *9 | #1
|  |  | Approximately 200 feet southeast of the intersection of Webhannet Drive and Folsom Street | None | #2
|  | Depot Brook | Approximately 0.38 mile downstream of U.S. Route 1 | *9 | *10
|  |  | Approximately 0.25 mile downstream of U.S. Route 1 | *9 | *10
|  | Little River | Approximately 0.62 mile upstream of mouth | *9 | *10
|  |  | At confluence of Merriland River | *9 | *10
|  | Merriland | At confluence with the River Little River | *9 | *10
|  |  | Approximately 125 feet downstream of Lords Road | *9 | *10
|  | Ogunquit River | Approximately 1.42 miles above mouth | *9 | *10
|  |  | Approximately 260 feet downstream of U.S. Route 1 | *9 | *10
|  | Stevens Brook | Approximately 2.00 miles above confluence with Ogunquit River | *9 | *10
|  |  | Approximately 0.31 mile downstream of U.S. Route 1 | *9 | *10
|  | Webhannet River | Approximately 0.72 mile downstream of U.S. Route 1 | *9 | *10
|  |  | Approximately 215 feet downstream of U.S. Route 1 | *9 | *10
Maps available for inspection at the Wells Town Hall, Planning & Code Enforcement Office, 208 Sanford Road, Wells, Maine.
Send comments to Ms. Barbara Gagnon, Town of Wells Code Enforcement Officer, P.O. Box 398, Wells, Maine 04090.
New Jersey | Berkeley Heights (Township), Union County | Passaic River | At a point approximately 500 feet upstream of downstream corporate limit | *213 | *212
|  |  | At upstream corporate limits | *215 | *213
|  | Snyder Avenue Brook | At the confluence with the Passaic River | *213 | *212
|  |  | At a point approximately 1,000 feet upstream of confluence with Passaic River | *213 | *212
|  | Forest Avenue Brook | At the confluence with the Passaic River | *214 | *213
|  |  | At a point approximately 60 feet upstream of confluence with Passaic River | *214 | *213
|  | Robbins Avenue Brook | At the confluence with the Passaic River | *213 | *212
|  |  | At a point approximately 450 feet downstream of Springfield Avenue | *213 | *212
|  | Chaucer Drive Brook | At the confluence with the Passaic River | *215 | *213
|  |  | At a point approximately 190 feet upstream of confluence with Passaic River | *215 | *214
Maps available for inspection at the Berkeley Heights Township Hall, Engineer's Office, 29 Park Avenue, Berkeley Heights, New Jersey.
Send comments to The Honorable David Cohen, Mayor of the Township of Berkeley Heights, 29 Park Avenue, Berkeley Heights, New Jersey 07922.
New Jersey | Bernards (Township), Somerset County | Passaic River | Approximately 1.6 miles downstream of Passaic Valley Road | *216 | *214
|  |  | Approximately 100 feet downstream of the upstream corporate limits | *302 | *303
|  | Dead River | At the downstream corporate limits | *216 | *214
|  |  | Approximately 0.78 mile upstream of the downstream corporate limits | *217 | *216
Maps available for inspection at the Bernards Township Hall, Engineer's Office, 277 South Maple Avenue, Bernards, New Jersey.
Send comments to The Honorable Galeanne Barth, Mayor of the Township of Bernards, 1 Collyer Lane, Bernards, New Jersey 07920.
New Jersey | Frenchtown (Borough) | Delaware River | At downstream corporate limit | *125 | *124
| Hunterdon County |  | At upstream corporate limit | *129 | *127
|  | Nishisakawick Creek | At confluence with Delaware River | *127 | *125
|  |  | A point approximately 450 feet upstream of Kingswood Avenue (State Route 12) | *127 | *126
|  | Little Nishisakawick Creek | At confluence with Delaware River | *127 | *125
|  |  | Approximately 760 feet upstream of State Route 29 (Trenton Avenue) | *127 | *126
Maps available for inspection at the Frenchtown Borough Hall, 29 Second Street, Frenchtown, New Jersey.
Send comments to The Honorable Ronald Sworen, Mayor of the Borough of Frenchtown, 29 Second Street, Frenchtown, New Jersey 08825.
New Jersey | Harding (Township), Morris County | Passaic River | At downstream corporate limits | None | *230
|  |  | Approximately 1.15 miles upstream of Mount Kemble Avenue (U.S. Route 202) | *304 | *303
Maps available for inspection at the Township of Harding Municipal Building, Township Clerk's Office, Blue Mill Road, New Vernon, New Jersey.
Send comments to The Honorable Donald Dinsmore, Mayor of the Township of Harding, P.O. Box 666, New Vernon, New Jersey 07976.
New Jersey | Hopewell (Township), Mercer County | Delaware River | Approximately 2,560 feet downstream of Washington Crossing Pennington Road | *51 | *50
|  |  | At upstream corporate limits | *64 | *65
Maps available for inspection at the Hopewell Township Hall, 201 Washington Crossing, Pennington Road, Titusville, New Jersey.
Send comments to The Honorable Mary Lou Ferrara, Mayor of the Township of Hopewell, 201 Washington Crossing, Pennington Road, Titusville, New Jersey 08560.
New Jersey | Millburn (Township), Essex County | Passaic River | Approximately 2,550 feet upstream of downstream corporate limits | *176 | *177
|  |  | Approximately 100 feet downstream of Main Street | *180 | *179
Maps available for inspection at the Millburn Township Hall, 375 Millburn Avenue, Millburn, New Jersey.
Send comments to The Honorable Elaine Becker, Mayor of the Township of Millburn, 375 Millburn Avenue, Millburn, New Jersey 07041.
New Jersey | New Providence (Borough), Union County | Passaic River | At the downstream corporate limit | *208 | *207
|  |  | At the upstream corporate limit | *211 | *212
Maps available for inspection at the New Providence Borough Hall, Engineer's Office, 360 Elkwood Avenue, New Providence, New Jersey.
Send comments to The Honorable Allen Morgan, Mayor of the Borough of New Providence, Municipal Building, 360 Elkwood Avenue, New Providence, New Jersey 07974.
New Jersey | Phillipsburg (Town), Warren County | Delaware River | At downstream corporate limits | *180 | *183
|  |  | Approximately 50 feet upstream of U.S. Route 22/Memorial Parkway | *195 | *196
|  | Lopatcong Creek | At confluence with Delaware River | *184 | *188
|  |  | Approximately 1,600 feet upstream of CONRAIL | *187 | *188
Maps available for inspection at the Phillipsburg Town Hall, 675 Corliss Avenue, Phillipsburg, New Jersey.
Send comments to The Honorable Harry Wyant, Jr., Mayor of the Town of Phillipsburg, 675 Corliss Avenue, Phillipsburg, New Jersey 08865.
New Jersey | Roseland (Borough), Essex County | Passaic River | At the downstream corporate limits | *173 | *174
|  |  | Approximately 0.65 mile upstream of Eagle Rock Avenue | *174 | *175
|  | Foulertons Brook | At the confluence with Passaic River | *173 | *174
|  |  | Approximately 0.44 mile upstream of the confluence with Passaic River | *173 | *174
|  | North Branch | At the confluence with Foulertons Brook | *173 | *174
|  | Foulertons Brooks | Approximately 780 feet upstream of the confluence with Foulertons Brook | *173 | *174
Maps available for inspection at the Roseland Municipal Building, Office of the Borough Clerk, 19 Harrison Avenue, Roseland, New Jersey.
Send comments to The Honorable Louis DeBell, Mayor of the Borough of Roseland, Municipal Building, 19 Harrison Avenue, Roseland, New Jersey 07068-1397.
New Jersey | West Caldwell (Borough), Somerset County | Passaic River | Upstream side of U.S. Route 46 | *173 | *174
|  |  | Approximately 2.6 miles upstream of U.S. route 46 | *173 | *174
|  | Pine Brook | Approximately 2,280 feet upstream of Orton Road | *245 | *246
|  |  | Approximately 2,680 feet upstream of Orton Road | *245 | *253
Maps available for inspection at the West Caldwell Borough Hall, 30 Clinton Road, West Caldwell, New Jersey.
Send comments to The Honorable Joseph Tempesta, Mayor of the Borough of West Caldwell, Municipal Building, 30 Clinton Road, West Caldwell, New Jersey 07006.
New York | Carmel (Town), Putnam County | Peekskill Hollow Creek | A point approximately 240 feet downstream of downstream corporate limits | None | *346
|  |  | A point approximately 200 feet upstream of Private Drive | None | *457
Maps available for inspection at the Carmel Town Hall, 60 McAlpin Avenue, Mahopac, New York.
Send comments to Mr. Frank Del Campo, Carmel Town Supervisor, 60 McAlpin Avenue, Mahopac, New York 10541.
New York | Hamilton (Town), | Sangerfield River | From downstream corporate limits | None | *1,075
| Madison County. |  | Upstream corporate limits | None | *1,186
Maps available for inspection at the Hamilton Town Hall, 16 Broad Street, Hamilton, New York.
Send comments to Mr. Walt Jaquay, Hamilton Town Supervisor, 16 Broad Street, Hamilton, New York 13346.
New York | Lumberland (Town), | Delaware River | At downstream corporate limits | None | *487
| Sullivan County. |  | At upstream corporate limits | None | *578
|  | Tributary to Delaware River | At the confluence with the Delaware River | None | *548
|  |  | Approximately 1,785 feet upstream of State Route 97 | None | *614
|  | Mill Brook | At the confluence with the Delaware River | None | *531
|  |  | Approximately 0.9 mile upstream of Bernard Church Road | None | *667
|  | East Branch Mill Brook | At confluence with Mill Brook | None | *662
|  |  | Approximately 0.5 mile upstream of East Branch Mill Brook Dam | None | *1,169
Maps available for inspection at the Lumberland Town Hall, 1054 Proctor Road, Glen Spey, New York.
Send comments to Mr. Paul Brennan, Lumberland Town Supervisor, P.O. Box 5, Glen Spey, New York 12737.
New York | Oswego (Town), Oswego County | Lake Ontario | Entire shoreline within community | *249 | *250
Maps available for inspection at the Oswego Town Hall, 2320 County Route 7, Oswego, New York.
Send comments to Mr. Jack Tyrie, Jr., Oswego Town Supervisor, 2320 County Route 7, Oswego, New York 13216.
New York | Putnam Valley (Town), Putnam | Peekskill Hollow Creek | At approximately 0.5 mile downstream of Peekskill Hollow Road | None | *248
|  |  | At approximately 2.2 miles upstream of Taconic State Parkway | None | *457
|  | Barger Brook | At approximately 1.0 mile downstream of Finnerty Road | None | *492
|  |  | At approximately 0.6 mile upstream of Finnerty Road | None | *649
|  | Oscawana Brook | At confluence with Peekskill Hollow Creek | None | *113
|  |  | At approximately 1,400 feet upstream of Oscawana Lake Road | None | *511
|  | Oscawana Brook (West Branch) | At approximately 720 feet downstream of Oscawana Lake Road | None | *449
|  |  | At approximately 840 feet upstream of Oscawana Lake Road | None | *511
|  | Shallow Flooding Area | West side of Canopus Creek approximately 1,400 feet southwest of Sunken Mine and Clear Lake Roads intersection | None | #3
|  | Canopus Creek | At approximately 60 feet upstream of dam | None | *320
|  |  | At approximately 1.66 mile (8,750 feet) upstream of Bell Hollow Road | None | *508
Maps available for inspection at the Putnam Valley Town Hall, 265 Oscawana Lake Road, Putnam Valley, New York.
Send comments to Mr. Carmelo Santos, Putnam Valley Town Supervisor, Putnam Valley Town Hall, 265 Oscawana Lake Road, Putnam Valley, New York 10579.
New York | Schuyler (Town), Herkimer County | Mohawk River | At the downstream corporate limits | None | *395
|  |  | Approximately 1.34 miles upstream of Newport Road | None | *407
Maps available for inspection at the Schuyler Town Clerk’s Office, 2090 State Route 5, Utica, New York.
Send comments to Mr. Kenneth M. Dodge, Schuyler Town Supervisor, 2090 State Route 5, Utica, New York 13502.
North Carolina | Warren County (Unincorporated Areas) | Lake Gaston | Along the entire shoreline of Lake Gaston downstream of State Route 1344 | None | *204
Maps available for inspection at the Warren County Planning and Zoning Office, 720 West Ridgeway Street, Warrenton, North Carolina.
Send comments to Mr. Harry Williams, Chairman of the Warren County Commission, P.O. Box 619, Warrenton, North Carolina 27589-0619.
Ohio | Glouster (Village), Athens County | Mud Fork | Confluence with West Branch Sunday Creek | None | *687
|  |  | Approximately 2,300 feet upstream of Oak Street | None | *694
|  | Sunday Creek | Approximately 2,960 feet downstream of Oak Street | None | *684
|  |  | Downstream side of State Route 78 | None | *691
|  | West Branch | Confluence with Sunday Creek | None | *687
|  | Sunday Creek | Approximately 2,200 feet upstream of Embrey Street | None | *687
Maps available for inspection at the Glouster Village Hall, 16 ½ Front Street, Glouster, Ohio.
Send comments to The Honorable David Angle, Mayor of the Village of Glouster, 16 ½ Front Street, Glouster, Ohio 45732.
Pennsylvania | Downingtown (Borough), Chester County | East Branch Brandywine Creek | Approximately 3,000 feet upstream of U.S. Route 322 | *229 | *232
|  |  | Approximately 700 feet upstream of U.S. Route 30 | *252 | *253
Maps available for inspection at the Downingtown Borough Hall, 4 West Lancaster Avenue, Downingtown, Pennsylvania.
Send comments to Mr. Anthony Gambale, Downingtown Borough Manager, 4 West Lancaster Avenue, Downingtown, Pennsylvania 19335.
Vermont | Montgomery (Town), Franklin County | Trout River | Approximately 0.57 mile downstream of the downstream corporate limits | None | *431
|  |  | Approximately 1,280 feet downstream of Comstock Bridge Road | *465 | *464
Maps available for inspection at the Montgomery Town Clerk's Office, 98 Main Street, Montgomery Center, Vermont.
Send comments to Mr. Arthur St. Onge, Jr., Chairman of the Town of Montgomery Board of Selectmen, P.O. Box 356, Montgomery, Vermont 05471.
Virginia | Franklin County (Unincorporated Areas) | Smith Mountain Lake | Entire shoreline within community | None | *803
|  | Roanoke River | Entire shoreline within community | None | *803
|  | Gills Creek | Approximately 575 feet downstream of State Route 668 | None | *803
|  |  | At confluence with Smith Mountain Lake | None | *803
|  | Lynville Creek | At confluence with Roanoke River | None | *803
|  |  | Approximately 1.95 miles upstream of the confluence with Roanoke River | None | *803
|  | Blackwater River | At confluence with Smith Mountain Lake | None | *803
|  |  | Approximately 2.9 miles upstream of confluence with Smith Mountain Lake | None | *803
Maps available for inspection at the Franklin County Planning Department, 70 East Court Street, Suite 301, Rocky Mount, Virginia.
Send comments to Mr. Richard F. Huff, Franklin County Administrator, 40 East Court Street, Rocky Mount, Virginia 24151.
Wisconsin | Belleville (Village), Dane County | Sugar River | At Remy Road | *856 | *855
|  |  | At a point approximately 1.2 miles upstream of Belleville Dam | *865 | *864
Maps available for inspection at the Belleville Village Hall, 24 West Main Street, Belleville, Wisconsin.
Send comments to Mr. Paul Ziehli, Belleville Village President, P.O. Box 79, Belleville, Wisconsin 53508.
Wisconsin | Cross Plains (Village), Dane County | Enchanted Valley Creek | At the confluence with Black Earth Creek | *875 | *873
|  |  | Approximately 50 feet downstream of Military Road | None | *903
Maps available for inspection at the Cross Plains Village Hall, 2417 Brewery Road, Cross Plains, Wisconsin.
Send comments to Mr. Duane Johnson, Cross Plains Village President, 2417 Brewery Road, Cross Plains, Wisconsin 53528.
Wisconsin | Dane County (Unincorporated Areas) | Lake Koshkonong | Entire shoreline within community | None | *784
|  | Koshkonong Creek | From approximately 0.7 mile downstream of North Jargo Road | None | *857
|  |  | Approximately 0.4 mile downstream of Park Street | None | *931
|  | Oregon Branch | A point approximately 300 feet downstream of Jefferson Street | None | *937
|  | Badfish Creek | Just downstream of Jefferson Street | None | *937
|  | Nine Springs Creek | A point approximately 550 feet upstream of the confluence with the Yahara River | None | *848
|  |  | A point approximately 0.33 mile upstream of the Soo Line Railroad | None | *848
|  | Pheasant Branch | A point approximately 0.56 mile upstream of Century Avenue | None | *858
|  |  | A point approximately 0.84 mile upstream of Century Avenue | None | *858
|  | Upper Mud Lake | Entire shoreline of Upper Mud Lake within community | None | *848
Maps available for inspection at the Dane County City-County Building, Room 116, 210 Martin Luther King, Jr. Boulevard, Madison, Wisconsin.
Send comments to Ms. Kathleen Falk, Dane County Executive, Room 421, City-County Building, 210 Martin Luther King, Jr. Boulevard, Madison, Wisconsin 53709.
Wisconsin | Deerfield (Village), Dane County | Unnamed Tributary from Mud Creek | Approximately 1.1 mile from confluence with Mud Creek | N/A | *850
Maps available for inspection at the Deerfield Village Hall, 4 North Main Street, Deerfield, Wisconsin.
Send comments to Mr. Arnold J. Evensen, Deerfield Village President, P.O. Box 66, Deerfield, Wisconsin 53531.
Wisconsin | McFarland (Village), Dane County | Upper Mud Lake (formerly known as Lake Waubesa) | Entire shoreline within the community | *847 | *848
Maps available for inspection at the McFarland Village Municipal Center, 5915 Milwaukee Street, McFarland, Wisconsin.
Send comments to Mrs. Cathy Kirby, McFarland Village President, P.O. Box 110, McFarland, Wisconsin 53558.
Wisconsin | Middleton (City), Kane County | Pheasant Branch | Approximately 1,500 feet west of the intersection of Airport Road and Laura Lane | #2 | *926
Maps available for inspection at the Middleton City Hall, 7426 Hubbard Avenue, Middleton, Wisconsin.
Send comments to The Honorable Dan Ramsey, Mayor of the City of Middleton, 7426 Hubbard Avenue, Middleton, Wisconsin 53562.
Wisconsin | Sheboygan (City), Sheboygan County | Lake Michigan | A point approximately 200 feet east of the intersection of Michigan Avenue and Broughton Drive | *584 | *587
|  |  | A point approximately 980 feet east of the intersection of Lincoln Avenue and Broughton Drive | *584 | *590
|  | Shallow Flooding Area | Approximately 0.3 mile east of the intersection of North Second Street and Lake Court North Point Drive | None | #1
|  |  | Approximately 425 feet east of the intersection of Pennsylvania Avenue and Broughton Drive | *584 | #1
|  |  | Approximately 900 feet east-northeast of intersection of Indiana Avenue and South Seventh Street | None | #1
|  |  | Approximately 700 feet east-southeast of the intersection of Indiana Avenue and South Seventh Street | None | #1
|  |  | Approximately 380 feet southeast of the intersection of South Seventh Street and Broadway Avenue | None | #1
Maps available for inspection at the Sheboygan City Hall, 828 Center Avenue, Sheboygan, Wisconsin.
Send comments to The Honorable James R. Schramm, Mayor of the City of Sheboygan, 828 Center Avenue, Sheboygan, Wisconsin 53081.
Wisconsin | Sheboygan County Unincorporated Areas | Lake Michigan | A point approximately 0.8 mile southeast of the intersection of County Trunk Highway KK and Moennig Road | *584 | *590
|  |  | Approximately 0.4 mile east of the intersection of Sauk Trail Road and County Trunk Highway K | *584 | *589
|  |  | A point approximately 980 feet southeast of the intersection of Townline Road and Cardinal Lane | None | #1
|  |  | A point approximately 100 feet east of intersection of Cardinal Road and Stokdyke Road | None | #1
|  |  | A point approximately 400 feet northeast of intersection of Cardinal Road and Stokdyke Road | None | #1
Maps available for inspection at the Sheboygan County Planning and Resources Department, 508 New York Avenue, Sheboygan, Wisconsin.
Send comments to Mr. Adam Payne, Sheboygan County Administrative Coordinator, 408 New York Avenue, Sheboygan, Wisconsin 53081.
Wisconsin | Shorewood Hills (Village), Kane County | Lake Mendota | Entire shoreline within community | None | *852
Maps available for inspection at the Shorewood Hills Village Hall, 810 Shorewood Boulevard, Madison, Wisconsin.
Send comments to Mr. Tom Popp, Shorewood Hills Village Administrator, 810 Shorewood Boulevard, Madison, Wisconsin 53705.
Wisconsin | Sun Prairie (City), Kane County | Koshkonong Creek | Approximately 1,300 feet upstream of Bailey Road | None | *922
|  |  | Approximately 1.0 mile upstream of South Bird Street | *926 | *925
Maps available for inspection at the Sun Prairie City Hall, 300 East Main Street, Sun Prairie, Wisconsin.
Send comments to The Honorable Jo Ann Orfan, Mayor of the City of Sun Prairie, 300 East Main Street, Sun Prairie, Wisconsin 53590.
Wisconsin | Waunakee (Village) Kane County | Sixmile Creek | Approximately 145 feet west of intersection of State Route 19 and Dorn Drive | None | *920
Maps available for inspection at the Waunakee Village Hall, 500 West Main Street, Waunakee, Wisconsin.
Send comments to Mr. Kevin Even, Village of Waunakee Director of Public Works, P.O. Box 100, Waunakee, Wisconsin 53597.
* Elevation in feet (NGVD).
** National American Vertical Datum of 1988.

(Catalog of Federal Domestic Assistance No. 83.100, “Flood Insurance”)
Dated: November 17, 2000.
Michael J. Armstrong,
Associate Director for Mitigation.

[FR Doc. 00-30558 Filed 11-29-00; 8:45 am]

BILLING CODE 6718-04-P